DEPARTMENT OF STATE

[Public Notice 6096]

Renewal of the Advisory Committee on Democracy Promotion

SUMMARY: The charter establishing the Advisory Committee on Democracy Promotion has been renewed for a 2-year period. This committee advises the Secretary of State and the Administrator of the U.S. Agency for International Development on the consideration of issues related to democracy promotion in the formulation and implementation of U.S. foreign policy and foreign assistance.

The committee will continue to follow the procedures prescribed by the Federal Advisory Committee Act (FACA). Meetings will be open to the public unless a determination is made in accordance with the FACA Section 10(d) and 5 U.S.C. 522b(c) (1) and (4) that a meeting or a portion of the meeting should be closed to the public. Unless there are exceptional circumstances, notice of each meeting will be provided in the Federal Register at least 15 days prior to the meeting date. If less than 15 days notice is provided, the justification will be included in the Federal Register notice.

FOR FURTHER INFORMATION CONTACT: Karen Chen in the Strategic Planning and External Affairs, Bureau of Democracy, Human Rights, and Labor at (202) 647-4648.

Dated: February 11, 2008.
Paula Dobriansky,
Under Secretary for Democracy and Global Affairs, Department of State.

[FR Doc. E8-5434 Filed 3-17-08; 8:45 am]

BILLING CODE 4710-18-P